DEPARTMENT OF COMMERCE

National Oceanic and Atmospheric Administration

Availability of Seats for the Thunder Bay National Marine Sanctuary and Underwater Preserve Advisory Council

AGENCY: Office of National Marine sanctuaries (ONMS), National Ocean Service (NOS), National Oceanic and Atmospheric Administration (NOAA), Department of Commerce (DOC).

ACTION: Notice and request for applications.

SUMMARY: The Thunder Bay National Marine Sanctuary and Underwater Preserve (Sanctuary/Preserve) is seeking applications for the following seats on the new Advisory Council: Recreation member and alternate, Tourism member and alternate, Business/Economic Development member and alternate, Fishing (recreational, charter and/or commercial) member and alternate, Diving member and alternate, Education (elementary, junior high, high school) member and alternate, Education (higher education) member and alternate, Maritime History & Interpretation member and alternate, and Citizen-At-Large 2 members and alternates.

Applicants are chosen based upon their particular expertise and experiences in relation to the seat for which they are applying; community and professional affiliations; and the length of residence in the area affected by the Sanctuary/Preserve.

Applicants who are chosen as members should expect to serve 2 to 3 year terms pursuant to the Council's Charter. Applicants should be available to attend approximately 4 to 6 meetings annually.

DATES: Applications are due by June 1, 2001.

ADDRESSES: Application kits may be obtained from Ellen Brody, NOAA/Thunder Bay National Marine Sanctuary and Underwater Preserve, 2205 Commonwealth Blvd., Ann Arbor, MI 48105-2945. Applications are also available on-line at: http://www.glerl.noaa.gov/glsr/thunderbay. All completed applications should be sent to the above Ann Arbor address.

FOR FURTHER INFORMATION CONTACT: Ellen Brody, NOAA/Thunder Bay National Marine Sanctuary and Underwater Preserve, 2205 Commonwealth Blvd., Ann Arbor, MI 48105-2945, (734) 741-2270 Phone, (734) 741-2176 FAX, ellen.brody@noaa.gov.

SUPPLEMENTARY INFORMATION: The first Thunder Bay Sanctuary Advisory Council was established in 1997. Their mission was to provide advice and recommendations to NOAA and the State throughout the designation process for the Sanctuary/Preserve.

The Sanctuary/Preserve was officially designated October 7, 2000. The new Sanctuary Advisory Council will provide advice and recommendations to the Sanctuary/Preserve Manager and the Joint Management Committee (a State/Federal body to oversee major policy, management and budget issues concerning the Sanctuary/Preserve) regarding the management and operation of the Thunder Bay Sanctuary/Preserve.

The Advisory Council will be composed of 15 local residents. In addition to the above competitive seats, the following entities will appoint a representative to sit on the Council: Alpena County Board of Commissioners, Alpena City Council, Alpena Township Board of Trustees, Sanborn Township Board of Trustees, Thunder Bay Underwater Preserve Council.

The Sanctuary/Preserve was established to manage and protect Thunder Bay's historic collection of an estimated 116 shipwrecks. NOAA and the State of Michigan are equal partners in the management of the Sanctuary/Preserve. Both NOAA and the State will mutually agree upon the selection of the Advisory Council members.

Authority: 16 U.S.C. Sections 1431, et seq.

(Federal Domestic Assistance Catalog Number 11.429 Marine Sanctuary Program)

Dated: April 26, 2001.
Ted I. Lillestolen,
Deputy Assistant Administrator for Ocean Services and Coastal Zone Management.

[FR Doc. 01-10983 Filed 5-1-01; 8:45 am]

BILLING CODE 3510-08-M